FEDERAL MINE SAFETY AND HEALTH REVIEW COMMISSION

Sunshine Act Meetings

October 3, 2014.

TIME AND DATE: 10:00 a.m., Thursday, October 16, 2014.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Newmont USA Limited, Docket Nos. WEST 2010-652-RM, et al. (Issues include whether the Administrative Law Judge erred by ruling that a non-working area where a fan was turned off is an unventilated area that must be sealed or barricaded.)

Any person attending this meeting who requires special accessibility features and/or auxiliary aids, such as sign language interpreters, must inform the Commission in advance of those needs. Subject to 29 CFR 2706.150(a)(3) and 2706.160(d).

CONTACT PERSON FOR MORE INFO: Sarah Stewart (202) 434-9935/(202) 708-9300 for TDD Relay/1-800-877-8339 for toll free.

Sarah L. Stewart,
Deputy General Counsel.

[FR Doc. 2014-24115 Filed 10-6-14; 11:15 am]

BILLING CODE 6735-01-P